DEPARTMENT OF AGRICULTURE

Animal and Plant Health Inspection Service

[Docket No. APHIS-2019-0048]

Notice of Availability of an Environmental Assessment for the Release of Sericothrips staphylinus for Biological Control of Gorse

AGENCY: Animal and Plant Health Inspection Service, USDA.

ACTION: Notice of availability.

SUMMARY: We are advising the public that the Animal and Plant Health Inspection Service has prepared an environmental assessment relative to permitting the release of Sericothrips staphylinus for the biological control of gorse, a spiny shrub, within the contiguous United States. Based on the environmental assessment and other relevant data, we have reached a preliminary determination that the release of this control agent will not have a significant impact on the quality of the human environment. We are making the environmental assessment available to the public for review and comment.

DATES: We will consider all comments that we receive on or before September 19, 2019.

ADDRESSES: You may submit comments by either of the following methods:

• Federal eRulemaking Portal: Go to http://www.regulations.gov/#!docketDetail;D=APHIS-2019-0048.

• Postal Mail/Commercial Delivery: Send your comment to Docket No. APHIS-2019-0048, Regulatory Analysis and Development, PPD, APHIS, Station 3A-03.8, 4700 River Road, Unit 118, Riverdale, MD 20737-1238.

Supporting documents and any comments we receive on this docket may be viewed at http://www.regulations.gov/#!docketDetail;D=APHIS-2019-0048 or in our reading room, which is located in Room 1141 of the USDA South Building, 14th Street and Independence Avenue SW, Washington, DC. Normal reading room hours are 8 a.m. to 4:30 p.m., Monday through Friday, except holidays. To be sure someone is there to help you, please call (202) 7997039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@usda.gov.

SUPPLEMENTARY INFORMATION: During the late 1800s, gorse was introduced into North America from Western Europe. Gorse (Ulex eurpaeus) is a spiny shrub found in eastern States, Washington, Oregon, California, and Hawaii. This plant is most often a pest of disturbed sites in open wild or less-developed areas where management is minimal or non-existent. Gorse's invasiveness is most prolific in the maritime climate within a few miles of the ocean, where sandy soils and rocky outcrops are especially vulnerable to invasion. Gorse's impacts include displacement of native plants, including forest tree saplings, reduction in the quality of wildlife habitats, increased fire hazard, interference in rights-of-way and recreation sites, and reduced livestock forage production.

The insect Sericothrips staphylinus was chosen as a potential biological control agent. Although specific information as to the extent of its range has been difficult to obtain, the native distribution of the agent is assumed to overlap with the majority of the range of gorse in Europe.

The Animal and Plant Health Inspection Service's (APHIS') review and analysis of the potential environmental impacts associated with the proposed release are documented in detail in an environmental assessment (EA) entitled “Field Release of the thrips Sericothrips staphylinus (Thysanoptera: Thripidae) for biological control of gorse, Ulex europaeus (Fabaceae), in the contiguous United States” (July 2019). We are making the EA available to the public for review and comment. We will consider all comments that we receive on or before the date listed under the heading DATES at the beginning of this notice.

The EA may be viewed on the Regulations.gov website or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 14th day of August 2019.
Kevin Shea,
Administrator, Animal and Plant Health Inspection Service.

[FR Doc. 2019-17809 Filed 8-19-19; 8:45 am]

BILLING CODE 3410-34-P